DEPARTMENT OF HEALTH AND HUMAN SERVICES

Centers for Medicare & Medicaid Services

[CMS-1594-N]

Medicare Program: Notice of Six Membership Appointments to the Advisory Panel on Hospital Outpatient Payment

AGENCY: Centers for Medicare & Medicaid Services (CMS), Department of Health and Human Services (HHS).

ACTION: Notice.

SUMMARY: This notice announces six new membership appointments to the Advisory Panel on Hospital Outpatient Payment (HOP, the Panel). The six appointments to the 19 member Panel will each serve a 4-year period. Five of the new members will have terms that begin on February 1, 2012 and continuing through January 31, 2016. The sixth member's term will begin on August 1, 2012 and continuing through July 31, 2016. The purpose of the Panel is to advise the Secretary of the Department of Health and Human Services and the Administrator of the Centers for Medicare & Medicaid Services concerning the clinical integrity of the Ambulatory Payment Classification groups and their weights. The Panel also addresses and makes recommendations regarding supervision of outpatient services. The advice provided by the Panel will be considered as we prepare the annual updates for the hospital outpatient prospective payment system.

FOR FURTHER INFORMATION CONTACT: For additional information on the Panel meeting dates, agenda topics, copy of the charter, as well as updates to the Panel's activities, search our Internet Web site: https://www.cms.gov/FACA/05_AdvisoryPanelonAmbulatoryPaymentClassificationGroups.asp#TopOfPage. (Note: There is an UNDERSCORE after FACA/05_; there is no space.)

For other information regarding the Panel, contact Paula Smith, the Designated Federal Officer at CMS, Center for Medicare, Hospital and Ambulatory Policy Group, Division of Outpatient Care, 7500 Security Boulevard, Mail Stop C4-05-13, Baltimore, MD 21244-1850, phone (410) 786-4709. Information can also be obtained by contacting the CMS Advisory Committees' Information Line at 1-877-449-5659 (toll free) and (410) 786-9379 (local).

SUPPLEMENTARY INFORMATION:

I. Background

The Secretary of the Department of Health and Human Services (the Secretary) is required by section 1833(t)(9)(A) of the Social Security Act (the Act) (42 U.S.C. 1395l(t)(9)(A)) and section 222 of the Public Health Service Act (PHS Act) (42 U.S.C. 217a) to consult with an expert outside advisory panel on the clinical integrity of the Ambulatory Payment Classification groups and weights. The Advisory Panel on Hospital Outpatient Payment (HOP, the Panel) is governed by the provisions of the Federal Advisory Committee Act (FACA) (Pub. L. 92-463, as amended (5 U.S.C. Appendix 2), which sets forth standards for the formation and use of advisory panels. The Panel Charter provides that the Panel shall meet up to 3 times annually. We consider the technical advice provided by the Panel as we prepare the proposed and final rules to update the outpatient prospective payment system for the next calendar year.

The Panel shall consist of a chair and up to 19 members who are full-time employees of hospitals, hospital systems, or other Medicare providers. The Secretary or a designee selects the Panel membership based upon either self-nominations or nominations submitted by Medicare providers and other interested organizations. New appointments are made in a manner that ensures a balanced membership under the FACA guidelines.

The Panel presently consists of the following members and a Chair: (The asterisk [*] indicates a Panel member whose term expires on July 31, 2012).

• Edith Hambrick, M.D., J.D., Chair, CMS Medical Officer.

• Ruth L. Bush, M.D., M.P.H.

• Kari S. Cornicelli, C.P.A., FHFMA.

• Dawn L. Francis, M.D., M.H.S.

• Kathleen Graham, R.N., M.S.H.A.*

• David A. Halsey, M.D.

• Brian D. Kavanagh, M.D., MPH.

• Judith T. Kelly, R.H.I.T., R.H.I.A., C.C.S.

• Scott Manaker, M.D., Ph.D.

• John Marshall, CRA, RCC, CIRCC, RT(R), FAHRA.

• Jacqueline Phillips.

• Randall A. Oyer, M.D.

• Daniel J. Pothen, M.S., RHIA, CHPS.

• Gregory Przybylski, M.D.

• Marianna V. Spanaki-Varela, MD, Ph.D., M.B.A.

II. Provisions of the Notice

We published a notice in the Federal Register on November 25, 2011, entitled “Medicare Program; Renaming and Other Changes to the Advisory Panel on Hospital Outpatient Payment Charter (Formerly the Advisory Panel on Ambulatory Payment Classification Groups) and Request for Nominations” (76 FR 72708). The notice requested nominations to be added to the Panel by replacing one Panel member whose term expires on July 31, 2012; replacing one Panel member who resigned; and by adding four new Panel members (two of these designated as Critical Access Hospital representatives (see the November 30, 2011 final rule, (76 FR 74363)) to address appropriate supervision level for hospital outpatient services. As a result of that November 25, 2012 notice and the November 30, 2011 final rule, we are announcing six new members to the Panel. Their appointments are for 4-year terms commencing on February 1, 2012 and August 1, 2012.

New Appointments to the Panel—The new members of the Panel with terms beginning on February 1, 2012 and continuing through January 31, 2016 are as follows:

• Lanny Copeland, M.D.,

• Jim Nelson,

• Leah Osbahr,

• Traci Rabine; and

• Gale Walker

The new member of the Panel with a term beginning on August 1, 2012, and continuing through July 31, 2016 is:

• Karen Borman, M.D.

III. Collection of Information Requirements

This document does not impose information collection and recordkeeping requirements. Consequently, it need not be reviewed by the Office of Management and Budget under the authority of the Paperwork Reduction Act of 1995 (44 U.S.C. 35).

(Catalog of Federal Domestic Assistance Program; No. 93.773 Medicare—Hospital Insurance Program; and No. 93.774, Medicare—Supplementary Medical Insurance Program)

Section 1833(t)(9)(A) of the Act (42 U.S.C. 1395l(t)(9)(A)). The Panel is governed by the provisions of the Federal Advisory Committee Act, as amended (5 U.S.C. Appendix 2).

Dated: February 8, 2012.
Marilyn Tavenner,
Acting Administrator, Centers for Medicare & Medicaid Services.

[FR Doc. 2012-3643 Filed 2-15-12; 8:45 am]

BILLING CODE 4120-01-P